DEPARTMENT OF THE TREASURY

Agency Information Collection Activities; Submission for OMB Review; Comment Request; Report of Transportation of Currency or Monetary Instruments (CMIR)—FinCEN Form 105

AGENCY: Departmental Offices, U.S. Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before September 29, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Financial Crimes Enforcement Network (FinCEN)

1. Title: Report of Transportation of Currency or Monetary Instruments (CMIR)—FinCEN Form 105.

OMB Control Number: 1506-0014.

Type of Request: Extension without change of a currently approved collection.

Description: 31 U.S.C. 5316 requires, with limited exceptions, that a person, or an agent or bailee of the person, file a report when the person, agent, or bailee knowingly: (i) transports, is about to transport, or has transported monetary instruments of more than $10,000 at one time from a place in the United States to or through a place outside the United States, or to a place in the United States from or through a place outside the United States; or (ii) receives monetary instruments of more than $10,000 at one time transported into the United States from or through a place outside the United States. The regulations implementing this statutory requirement are found at 31 CFR 1010.340 and 31 CFR 1010.306.

Form: FinCEN Form 105.

Affected Public: Individuals and households, Businesses or other for-profits.

Estimated Number of Respondents: 108,400.

Frequency of Response: On Occasion.

Estimated Total Number of Annual Responses: 140,687.

Estimated Time per Response: 17.95 minutes, on average.

Estimated Total Annual Burden Hours: 42,089.

Authority: 44 U.S.C. 3501 et seq.

Spencer W. Clark,
Treasury PRA Clearance Officer.

[FR Doc. 2025-16624 Filed 8-28-25; 8:45 am]

BILLING CODE 4810-02-P